DEPARTMENT OF HEALTH AND HUMAN SERVICES

National Institutes of Health

Office of the Director, National Institutes of Health; Notice of Meeting: Scientific Workshop—Menopausal Hormone Therapy

Notice is hereby given that the Office of the Director, National Institutes of Health (NIH), Department of Health and Human Services, will convene a workshop on October 23, 2002, 8:30 am-5 pm; and October 24, 2002, 8:30 am-3:30 pm. The workshop will be held at the Natcher Conference Center, NIH, 45 Center Drive, Bethesda, Maryland 20892.

This meeting is open to the public. Advance registration and evidence of such upon arrival are required as seating is limited. Proceedings will be videocast to additional conference rooms within the Natcher Conference Center. The meeting will be webcast at http://videocast.nih.gov/. Individuals who plan to attend and need special assistance, such as sign language interpretation or other reasonable accommodations, should notify the Contact Person listed below in advance of the meeting.

The purpose of this NIH conference is to review the results from the arm of the Women's Health Initiative (WHI) clinical trial studying the use of combination estrogen and progestin in post-menopausal women. This portion of the clinical trial was halted recently. The workshop will place the results of this portion of the trial in the context of other completed and ongoing Federally funded research on menopausal combination hormone therapy (HT). It will help clinicians and patients understand the implications of current knowledge on decisions regarding short- and long-term use of HT. In addition, the most recent information from the U.S. Preventive Services Task Force on hormone therapy and its use for chronic disease prevention will be presented, as will recommendations on specific clinical uses of HT from professional organizations. The conference will provide information about alternatives for HT for treatment of specific conditions such as osteoporosis, heart disease, and vasomotor symptoms that include mood and sleep disorders. Other ongoing studies will be reviewed.

Time will be provided for public statements to be presented during the second day of the workshop, October 24. Any registered participant may submit a statement of no more than five double-spaced typewritten pages. All statements submitted will be made available as handouts during the conference. Due to time constraints, oral statements will be accommodated on a first-come first-served basis, and will be limited to three minutes each. Registration forms and requests to present oral statements should be sent to Ms. Robin Counts, Courtesy Associates Inc., 2025 M Street, NW, Suite 800, Washington, DC, 20036. To register for this conference, please use the online registration form at http://www4.od.nih.gov/orwh/ or contact the Courtesy Associates HT Conference Line at 202-973-8673 (HT@courtesyassoc.com) by October 14, 2002.

Dated: September 26, 2002.
Ruth L. Kirschstein,
Deputy Director, NIH.

[FR Doc. 02-25231 Filed 10-3-02; 8:45 am]

BILLING CODE 4140-01-P